DEPARTMENT OF COMMERCE

International Trade Administration

Tulane University, et al.; Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, NW, Washington, DC.

Docket Number: 00-010. Applicant: Tulane University, New Orleans, LA 70118-5698. Instrument: Electron Microscope, Model JEM-2010. Manufacturer: JEOL Ltd., Japan. Intended Use: See notice at 65 FR 34148, May 26, 2000. Order Date: December 6, 1999.

Docket Number: 00-015. Applicant: University of California, San Diego, La Jolla, CA 92093-0608. Instrument: Electron Microscope, Model JEM-3100. Manufacturer: JEOL Ltd., Japan. Intended Use: See notice at 65 FR 37118, June 13, 2000. Order Date: January 12, 2000.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order.

Frank W. Creel,
Director, Statutory Import Programs Staff.

[FR Doc. 00-19542 Filed 8-1-00; 8:45 am]

BILLING CODE 3510-DS-P